DEPARTMENT OF TRANSPORTATION

Federal Aviation Administration

[Policy Statement Number PS-ACE100-2004-10030]

Policy on Substantiation of Secondary Composite Structures

AGENCY: Federal Aviation Administration, DOT.

ACTION: Notice of issuance of policy statement.

SUMMARY: This notice announces the issuance of a Federal Aviation Administration (FAA) policy to provide some guidelines for certifying secondary structures made from composite materials. This notice is necessary to advise the public, especially manufacturers of normal, utility, and acrobatic category airplanes, and commuter category airplanes and their suppliers, that the FAA has adopted a policy on composite applications that range from secondary structures to non-structural parts such as interiors.

DATES: Policy statement PS-ACE100-2004-10030 was issued by the Manager of the Small Airplane Directorate on April 19, 2005.

How to Obtain Copies: A paper copy of policy statement may be obtained by writing to the following: Small Airplane Directorate, Standards Office (ACE-110), Aircraft Certification Service, Federal Aviation Administration, 901 Locust Street, Room 301, Kansas City, MO 64106. The policy statement will also be available on the Internet at the following address http://www.airweb.faa.gov/policy.

FOR FURTHER INFORMATION CONTACT: Lester Cheng, Federal Aviation Administration, Small Airplane Directorate, Regulations & Policy, ACE-111, 901 Locust Street, Room 301, Kansas City, Missouri 64106; telephone: (316) 946-4111; fax: 816-329-4090; e-mail: lester.cheng@faa.gov.

SUPPLEMENTARY INFORMATION:

Background

We announced the availability of the policy statement on August 16, 2004 (69 FR 50438). No comments were received, and the policy has been adopted as proposed.

Issued in Kansas City, Missouri on April 19, 2005.
Patrick R. Mullen,
Acting Manager, Small Airplane Directorate, Aircraft Certification Service.

[FR Doc. 05-8537 Filed 4-28-05; 8:45 am]

BILLING CODE 4910-13-P